SECURITIES AND EXCHANGE COMMISSION

Proposed Collection; Comment Request

Upon Written Request, Copies Available From: Securities and Exchange Commission, Office of Filings and Information Services, Washington, DC 20549

Extension: Rule 29, SEC File No. 270-169, OMB Control No. 3235-0149.

Notice is hereby given that, pursuant to the Paperwork Reduction Act of 1995 (44 U.S.C. 3501 et. seq.), the Securities and Exchange Commission (“Commission”) is soliciting comments on the collection of information summarized below. The Commission plans to submit the existing collection of information to the Office of Management and Budget for extension and approval.

Rule 29 under the Public Utility Holding Company Act of 1935, as amended, (“Act”), 15 U.S.C. 79, et seq., requires that “[a] copy of each annual report submitted by any registered holding company or any of its subsidiaries to a state commission covering operations not reported to the Federal Energy Regulatory Commission shall be filed with the Securities and Exchange Commission no later than ten days after its submission.”

The regulation requires that the same reports prepared and filed under state law be filed with the Commission. The information collected under Rule 29 permits the Commission to remain current on developments that are reported to state commissions, but that may not otherwise be reported to the Commission. This information is beneficial to the liaison the Commission maintains with state governments and is also useful in the preparation of annual reports to the U.S. Congress required under section 23 of the Act, 15 U.S.C. 79(w).

The Commission receives about 62 annual reports per year under this regulation. We estimate, on the basis of informal discussions with respondents, that the rule imposes a burden of about .25 hours each year for each respondent, which makes only one submission. Therefore, a total annual burden of 15.50 hours is imposed. The cost of this reporting burden is estimated to be $100 per hour or $1,550 total for all respondents. The responses are public documents so confidentiality is not an issue. All registered companies and their subsidiaries are required to make the filings.

The estimate of average burden hours is made solely for the purpose of the Paperwork Reduction Act and is not derived from a comprehensive or even a representative survey or study of the costs of SEC rules and forms.

Written comments are invited on: (a) Whether the proposed collection of information is necessary for the proper performance of the functions of the agency, including whether the information will have a practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Kenneth A. Fogash, Acting Associate Executive Director/CIO, Office of Information Technology, Securities and Exchange Commission, 450 Fifth Street NW., Washington, DC 20549.

Dated: January 7, 2004.
J. Lynn Taylor,
Assistant Secretary.

[FR Doc. 04-801 Filed 1-13-04; 8:45 am]

BILLING CODE 8010-01-P